FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 010979-048.

Title: Caribbean Shipowners Association.

Parties: Bernuth Lines, Ltd.; CMA CGM, S.A.; Crowley Caribbean Services, LLC/Crowley Liner Services, Inc.; Seaboard Marine, Ltd.; Seafreight Line, Ltd.; Sea Star Line Caribbean, LLC; and Zim Integrated Shipping Services, Ltd.

Filing Party: Wayne R. Rohde, Esq.; Sher and Blackwell; 1850 M Street, NW., Suite 900; Washington, DC 20036.

Synopsis: The amendment removes Tropical Shipping & Construction Co., Ltd. as a party to the agreement.

Agreement No.: 010982-046.

Title: Florida-Bahamas Shipowners and Operators Association.

Parties: Atlantic Caribbean Line, Inc.; Bernuth Lines, Ltd.; Crowley Caribbean Services LLC/Crowley Liner Services, Inc.; Seaboard Marine, Ltd.; and Seafreight Line, Ltd.

Filing Party: Wayne R. Rohde, Esq.; Sher & Blackwell LLP; 1850 M Street, NW., Suite 900; Washington, DC 20036.

Synopsis: The amendment removes Tropical Shipping and Construction Co., Ltd. as a party to the agreement.

Agreement No.: 011953-008.

Title: Florida Shipowners Group Agreement.

Parties: The member lines of the Caribbean Shipowners Association and the Florida-Bahamas Shipowners and Operators Association.

Filing Party: Wayne R. Rhode, Esq.; Sher & Blackwell, LLP; 1850 M Street, NW., Suite 900; Washington, DC 20036.

Synopsis: The amendment reflects Tropical Shipping & Construction Company's withdrawal from the underlying agreements.

Agreement No.: 012067-001.

Title: U.S. Supplemental Agreement to HLC Agreement.

Parties: BBC Chartering & Logistics GmbH & Co. KG; Beluga Chartering GmbH; Clipper Projects Ltd.; Industrial Maritime Carriers, L.L.C.; Rickmers-Linie GmbH & Cie. KG; and Universal Africa Lines Ltd.

Filing Party: Wade S. Hooker, Esq.; 211 Central Park W; New York, NY 10024.

Synopsis: The amendment would reduce the minimum vessel capacity for membership and add Chipolbrok, Hyundai Merchant Marine Co., Ltd. and Nordana Line A/S as parties to the agreement. The amendment also updates the membership of the International Council of Heavy Lift and Project Cargo Carriers Agreement (the “HLC Agreement”) to add as parties, in addition to the foregoing, AAL/Schoeller Holdings Ltd., Conti Lines N.V., Scanscot Shipping Services, and Scan-Trans Chartering ApS.

Agreement No.: 012076.

Title: ELJSA/CKYH Vessel Sharing Agreement—Trans-Atlantic Express Service.

Parties: Evergreen Line Joint Service Agreement, including Evergreen Marine Corp. (Taiwan) Ltd., Evergreen Marine (UK) Ltd., Italia Marittima S.p.A., Evergreen Marine (Hong Kong) Ltd., and Evergreen Marine (Singapore) Pte Ltd.; COSCO Container Lines Company Limited; Kawasaki Kisen Kaisha, Ltd.; YangMing (UK) Ltd.; and Hanjin Shipping Co., Ltd.

Filing Party: Paul M. Keane, Esq.; Cichanowicz, Callan, Keane, Vengrow & Textor LLP; 61 Broadway, Suite 3000; New York, NY 10006-2802.

Synopsis: The agreement authorizes the parties to share vessel space in the trade between U.S. East Coast ports and ports in Northern Europe.

By Order of the Federal Maritime Commission.
Dated: August 28, 2009.
Karen V. Gregory,
Secretary.

[FR Doc. E9-21189 Filed 9-1-09; 8:45 am]

BILLING CODE P